DEPARTMENT OF AGRICULTURE

Forest Service

Helena National Forest Travel Plan, Helena National Forest, Broadwater, Lewis and Clark, Meagher and Powell Counties, MT

AGENCY: Forest Service, USDA.

ACTION: Notice; Extension of comment period.

SUMMARY: On December 1, 2000 the Forest Service published a Notice of Intent to prepare an Environmental Impact Statement on a proposal to update travel management on approximately 390,000 acres of National Forest lands on the Townsend, Helena and Lincoln Ranger Districts. These 390,000 acres are the remaining lands that have not been subject to recent motorized travel management decisions or have decisions pending. The project covers three separate areas in the Blackfoot, Divide/Little Blackfoot and the South Belts areas. Motorized travel activities in these areas are presently subject to the June 30, 1994 Helena National Forest Travel Plan. The original NOI specified that comments should be received by January 5, 2001. The comment period will be extended to January 31, 2001.

DATES: Comments concerning the proposal and scope of the analysis should be received in writing by January 31, 2001.

ADDRESSES: Send written comments to USDA Forest Service, Helena National Forest, 2880 Skyway Drive, Helena, MT 59601.

FOR FURTHER INFORMATION CONTACT: Tom Andersen, Team Leader, (406) 449-5201, ext 277.

The responsible official is Thomas J. Clifford, Forest Supervisor, Helena National Forest, 2880 Skyway Drive, Helena, MT 59601.

Dated: December 21, 2000.
Thomas J. Clifford,
Helena Forest Supervisor.

[FR Doc. 01-285 Filed 1-4-01; 8:45 am]

BILLING CODE 3410-11-M